DEPARTMENT OF COMMERCE

International Trade Administration

[C-122-848]

Hard Red Spring Wheat From Canada: Notice of Rescission of Countervailing Duty Administrative Review

AGENCY: Import Administration, International Trade Administration, Department of Commerce.

SUMMARY: In response to a request made on October 29, 2004, by the Canadian Wheat Board, the Department of Commerce initiated an administrative review of the countervailing duty order on hard red spring wheat from Canada, covering the period March 10, 2003, through December 31, 2003. See Initiation of Antidumping and Countervailing Duty Administrative Reviews, 69 FR 67701 (November 19, 2004). As a result of a timely withdrawal of the request for review by the Canadian Wheat Board, we are rescinding this review.

EFFECTIVE DATE: February 18, 2005.

FOR FURTHER INFORMATION CONTACT: Audrey Twyman or Stephen Cho, AD/CVD Operations, Office 1, Import Administration, U.S. Department of Commerce, 14th Street and Constitution Avenue, NW, Washington, DC 20230; telephone (202) 482-3534 and 202-482-3798, respectively.

SUPPLEMENTARY INFORMATION:

Background

On October 23, 2003, the Department of Commerce (“the Department”) published a countervailing duty order on hard red spring wheat (“HRSW”) from Canada. See Notice of Countervailing Duty Order: Hard Red Spring Wheat from Canada, 68 FR 60642 (October 23, 2003). On October 29, 2004, the Canadian Wheat Board (“CWB”) requested an administrative review of the countervailing duty order on HRSW from Canada covering the period March 10, 2003, through December 31, 2003. In accordance with 19 CFR 351.221(c)(1)(i), we published a notice of initiation of the review on November 19, 2004. See Initiation of Antidumping and Countervailing Duty Administrative Reviews, 69 FR 67701 (November 19, 2004). On February 8, 2005, the CWB withdrew its request for review.

Scope of the Countervailing Duty Order

Imports covered by this order are all varieties of HRSW from Canada. This includes, but is not limited to, varieties commonly referred to as Canada Western Red Spring, Canada Western Extra Strong, and Canada Prairie Spring Red. The merchandise subject to this order is currently classifiable under the following Harmonized Tariff Schedule of the United States (“HTSUS”) subheadings: 1001.90.10.00, 1001.90.20.05, 1001.90.20.11, 1001.90.20.12, 1001.90.20.13, 1001.90.20.14, 1001.90.20.16, 1001.90.20.19, 1001.90.20.21, 1001.90.20.22, 1001.90.20.23, 1001.90.20.24, 1001.90.20.26, 1001.90.20.29, 1001.90.20.35, and 1001.90.20.96. This order does not cover imports of wheat that enter under the subheadings 1001.90.10.00 and 1001.90.20.96 that are not classifiable as HRSW. Although the HTSUS subheadings are provided for convenience and customs purposes, our written description of the scope of this order is dispositive.

Rescission of Review

The Department's regulations at 19 CFR 351.213(d)(1) provide that the Department will rescind an administrative review if a party that requested a review withdraws the request within 90 days of the date of publication of the notice of initiation of the requested review. The CWB withdrew its request for an administrative review on February 8, 2005, which is within the 90-day deadline. No other party requested a review of this order. Therefore, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with 19 CFR 351.213(d)(4).

Dated: February 14, 2005.
Barbara E. Tillman,
Acting Deputy Assistant Secretary for Import Administration.

[FR Doc. E5-668 Filed 2-17-05; 8:45 am]

BILLING CODE: 3510-DS-S